DEPARTMENT OF ENERGY

Federal Energy Regulatory Commission

Combined Notice of Filings #1

Take notice that the Commission received the following electric rate filings:

Docket Numbers: ER10-1946-014.

Applicants: Broad River Energy LLC.

Description: Updated Market Power Analysis for the Southeast Region of Broad River Energy LLC.

Filed Date: 12/7/17.

Accession Number: 20171207-5139.

Comments Due: 5 p.m. ET 02/05/18.

Docket Numbers: ER17-1769-001.

Applicants: Solar Star Oregon II, LLC.

Description: Supplement to October 20, 2017 Notice of Change in Status of Solar Star Oregon II, LLC.

Filed Date: 12/7/17.

Accession Number: 20171207-5159.

Comments Due: 5 p.m. ET 12/28/17.

Docket Numbers: ER18-407-000.

Applicants: Wildwood Lessee, LLC.

Description: Compliance filing: Certificate of Concurrence Filing to be effective 12/10/2017.

Filed Date: 12/7/17.

Accession Number: 20171207-5123.

Comments Due: 5 p.m. ET 12/28/17.

Docket Numbers: ER18-408-000.

Applicants: Pacific Gas and Electric Company.

Description: § 205(d) Rate Filing: TACBAA and RSBA Charge Update 2018 to be effective 3/1/2018.

Filed Date: 12/7/17.

Accession Number: 20171207-5125.

Comments Due: 5 p.m. ET 12/28/17.

Docket Numbers: ER18-409-000.

Applicants: Southern California Edison Company.

Description: Tariff Cancellation: Notice of Cancellation LGIA Puente Power Project to be effective 2/8/2018.

Filed Date: 12/8/17.

Accession Number: 20171208-5000.

Comments Due: 5 p.m. ET 12/29/17.

Docket Numbers: ER18-410-000.

Applicants: Southern California Edison Company.

Description: Tariff Cancellation: Notices of Cancellation GIA and Service Agreement Santa Paula ES Project to be effective 2/15/2018.

Filed Date: 12/8/17.

Accession Number: 20171208-5001.

Comments Due: 5 p.m. ET 12/29/17.

Docket Numbers: ER18-411-000.

Applicants: Southern California Edison Company.

Description: § 205(d) Rate Filing: LGIA for Peak Valley Solar Farm Project SA No. 198 to be effective 2/8/2018.

Filed Date: 12/8/17.

Accession Number: 20171208-5002.

Comments Due: 5 p.m. ET 12/29/17.

Docket Numbers: ER18-412-000.

Applicants: PJM Interconnection, L.L.C.

Description: § 205(d) Rate Filing: Original Service Agreement No. 4869; Queue No. AC2-138 (WMPA) to be effective 12/1/2017.

Filed Date: 12/8/17.

Accession Number: 20171208-5019.

Comments Due: 5 p.m. ET 12/29/17.

Docket Numbers: ER18-413-000.

Applicants: Golden Spread Electric Cooperative, Inc.

Description: § 205(d) Rate Filing: Rider A SSR and Ex C Amendments to WPC to be effective 1/1/2018.

Filed Date: 12/8/17.

Accession Number: 20171208-5053.

Comments Due: 5 p.m. ET 12/29/17.

Take notice that the Commission received the following PURPA 210(m)(3) filings:

Docket Numbers: QM18-5-000.

Applicants: Wabash Valley Power Association, Inc.

Description: Application for Termination of Mandatory Purchase Obligation of Wabash Valley Power Association, Inc.

Filed Date: 12/7/17.

Accession Number: 20171207-5136.

Comments Due: 5 p.m. ET 1/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2017.
Kimberly D. Bose,
Secretary.

[FR Doc. 2017-27221 Filed 12-18-17; 8:45 am]

BILLING CODE 6717-01-P